DEPARTMENT OF TRANSPORTATION

Federal Aviation Administration

14 CFR Part 39

[Docket No. FAA-2024-0458; Project Identifier MCAI-2024-00116-E; Amendment 39-22694; AD 2024-04-51]

RIN 2120-AA64

Airworthiness Directives; Pratt & Whitney Canada Corp. Engines

AGENCY: Federal Aviation Administration (FAA), DOT.

ACTION: Final rule; request for comments.

SUMMARY: The FAA is adopting a new airworthiness directive (AD) for all Pratt & Whitney Canada Corp. (P&WC) Model PT6A-64, PT6A-66, PT6A-66A, PT6A-66B, PT6A-66D, PT6A-67, PT6A-67A, PT6A-67AF, PT6A-67AG, PT6A-67B, PT6A-67D, PT6A-67F, PT6A-67P, PT6A-67R, PT6A-67RM, PT6A-67T, PT6A-68, PT6A-68D, PT6E-67XP, and PT6E-66XT engines. The FAA previously sent this AD as an emergency AD to all known U.S. owners and operators of these engines. This AD was prompted by reports of second-stage power turbine (PT2) blade failures. This AD requires removal of affected PT2 blades prior to the next flight and prohibits installation of affected PT2 blades, as specified in a Transport Canada Emergency AD, which is incorporated by reference. The FAA is issuing this AD to address the unsafe condition on these products.

DATES: This AD is effective March 28, 2024. Emergency AD 2024-04-51, issued on February 16, 2024, which contained the requirements of this amendment, was effective with actual notice.

The Director of the Federal Register approved the incorporation by reference of a certain publication identified in this AD as of March 28, 2024.

The FAA must receive comments on this AD by April 29, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-0458; or in person at Docket Operations between 9 a.m. and 5 p.m., Monday through Friday, except Federal holidays. The AD docket contains this final rule, the mandatory continuing airworthiness information (MCAI), any comments received, and other information. The street address for Docket Operations is listed above.

Material Incorporated by Reference:

• For service information identified in this final rule, contact Transport Canada, Transport Canada National Aircraft Certification, 159 Cleopatra Drive, Nepean, Ontario K1A 0N5, Canada; phone: (888) 663-3639; email: TC.AirworthinessDirectives-Consignesdenavigabilite.TC@tc.gc.ca; website: tc.canada.ca/en/aviation.

• You may view this material at the FAA, Airworthiness Products Section, Operational Safety Branch, 2200 South 216th Street, Des Moines, WA. For information on the availability of this material at the FAA, call (817) 222-5110. It is also available at regulations.gov under Docket No. FAA-2024-0458.

FOR FURTHER INFORMATION CONTACT: Barbara Caufield, Aviation Safety Engineer, FAA, 2200 South 216th Street, Des Moines, WA 98198; phone: (781) 238-7146; email: barbara.caufield@faa.gov.

SUPPLEMENTARY INFORMATION:

Comments Invited

The FAA invites you to send any written data, views, or arguments about this final rule. Send your comments to an address listed under ADDRESSES. Include “Docket No. FAA-2024-0458; Project Identifier MCAI-2024-00116-E” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Barbara Caufield, Aviation Safety Engineer, FAA, 2200 South 216th Street, Des Moines, WA 98198. Any commentary that the FAA receives which is not specifically designated as CBI will be placed in the public docket for this rulemaking.

Background

The FAA issued Emergency AD 2024-04-51, dated February 16, 2024 (the emergency AD), to address an unsafe condition on P&WC Model PT6A-64, PT6A-66, PT6A-66A, PT6A-66B, PT6A-66D, PT6A-67, PT6A-67A, PT6A-67AF, PT6A-67AG, PT6A-67B, PT6A-67D, PT6A-67F, PT6A-67P, PT6A-67R, PT6A-67RM, PT6A-67T, PT6A-68, PT6A-68D, PT6E-67XP, and PT6E-66XT engines. The FAA sent the emergency AD to all known U.S. owners and operators of these engines. The emergency AD requires removal of affected PT2 blades prior to the next flight. The emergency AD also prohibits installation of affected PT2 blades.

The emergency AD was prompted by Transport Canada Emergency AD CF-2024-05, dated February 15, 2024 (Transport Canada Emergency AD CF-2024-05) (referred to after this as the MCAI), issued by Transport Canada, which is the aviation authority for Canada, to correct an unsafe condition on P&WC Model PT6A-64, PT6A-66, PT6A-66A, PT6A-66B, PT6A-66D, PT6A-66T, PT6A-67, PT6A-67A, PT6A-67AF, PT6A-67AG, PT6A-67B, PT6A-67D, PT6A-67F, PT6A-67P, PT6A-67R, PT6A-67RM, PT6A-67T, PT6A-68, PT6A-68B, PT6A-68C, PT6A-68D, PT6A-68T, PT6E-67XP, and PT6E-66XT engines. The MCAI states that there has been a recent in-service report of a PT2 blade failure on a model PT6A-67 engine and two reports of PT2 blade failures during testing at the manufacturer's facility. The PT2 blade failures were contained. The manufacturer is investigating the root cause of the PT2 blade failures, but the preliminary investigation determined that the affected power turbine modules contained PT2 blades with part number 3056693-01, which were newly manufactured from the same raw material. In all cases, the PT2 blades had accumulated less than 25 hours air time since new. Transport Canada Emergency AD CF-2024-05 specifies removal of the suspect blades prior to the next flight and prohibits installation of the suspect blades. Transport Canada Emergency AD CF-2024-05 states that the corrective actions are interim actions until the root cause investigation is completed. This condition, if not addressed, could result in engine power loss or engine in-flight shut down, resulting in consequent emergency landing or reduced control of the airplane. The FAA is issuing this AD to address the unsafe condition on these products.

You may examine the MCAI in the AD docket at regulations.gov under Docket No. FAA-2024-0458.

Related Service Information Under 1 CFR Part 51

The FAA reviewed Transport Canada Emergency AD CF-2024-05, which requires replacing the affected PT2 blades. Transport Canada Emergency AD CF-2024-05 also prohibits the installation of the affected PT2 blades. This material is reasonably available because the interested parties have access to it through their normal course of business or by the means identified in ADDRESSES.

FAA's Determination

This product has been approved by the aviation authority of another country and is approved for operation in the United States. Pursuant to the FAA's bilateral agreement with this State of Design Authority, it has notified the FAA of the unsafe condition described in the MCAI and service information described above. The FAA is issuing this AD after determining that the unsafe condition described previously is likely to exist or develop in other products of the same type design.

AD Requirements

This AD requires accomplishing the actions specified in the MCAI, except as discussed under “Differences Between this AD and the MCAI.”

Differences Between This AD and the MCAI

The MCAI applies to P&WC Model PT6A-66T, PT6A-68B, PT6A-68C, and PT6A-68T engines, but this emergency AD does not as these engines are not U.S. type-certificated.

Interim Action

The FAA considers that this AD is an interim action. The manufacturer is currently investigating the root cause of the unsafe condition identified in this AD. If final action is later identified, the FAA might consider further rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that required the immediate adoption of Emergency AD 2024-04-51, issued on February 16, 2024, to all known U.S. owners and operators of these engines. The FAA found that the risk to the flying public justified waiving notice and comment prior to adoption of this rule because failure of the PT2 blade could result in engine power loss or engine in-flight shut down, and consequent emergency landing or reduced control of the airplane. Given the significance of the risk presented by this unsafe condition, it must be immediately addressed. Thus, the FAA has determined that the affected PT2 blades must be removed before further flight. These conditions still exist, therefore, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 75 engines installed on aircraft of U.S. registry. The FAA does not know how many affected PT2 blades are installed on each engine. This cost estimate therefore reflects the cost of replacing one affected PT2 blade per engine. Replacing more than one affected PT2 blade at the same time would not incur additional labor costs.

The FAA estimates the following costs to comply with this AD:

Estimated Costs
Action | Labor cost | Parts cost (average pro-rated cost) | Cost per product | Cost on U.S. operators
Replace PT2 blade | 8 work-hours x $85 per hour = $680 | $4,001 | $4,681 | $351,075

The FAA has included all known costs in its cost estimate. According to the manufacturer, however, all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-04-51 Pratt & Whitney Canada Corp.: Amendment 39-22694; Docket No. FAA-2024-0458; Project Identifier MCAI-2024-00116-E.

(a) Effective Date

The FAA issued emergency Airworthiness Directive (AD) 2024-04-51 on February 16, 2024, directly to affected owners and operators. As a result of such actual notice, the emergency AD was effective for those owners and operators on the date it was received. This AD contains the same requirements as the emergency AD and, for those who did not receive actual notice, is effective on March 28, 2024.

(b) Affected ADs

None.

(c) Applicability

This AD applies to Pratt & Whitney Canada Corp. Model PT6A-64, PT6A-66, PT6A-66A, PT6A-66B, PT6A-66D, PT6A-67, PT6A-67A, PT6A-67AF, PT6A-67AG, PT6A-67B, PT6A-67D, PT6A-67F, PT6A-67P, PT6A-67R, PT6A-67RM, PT6A-67T, PT6A-68, PT6A-68D, PT6E-67XP, and PT6E-66XT engines.

(d) Subject

Joint Aircraft System Component (JASC) Code, 7250 Turbine Section.

(e) Unsafe Condition

This AD was prompted by reports from the manufacturer of the failure of second-stage power turbine (PT2) blades. The FAA is issuing this AD to prevent the failure of PT2 blades. The unsafe condition, if not addressed, could result in engine power loss or engine in-flight shut down, resulting in consequent emergency landing or reduced control of the airplane.

(f) Compliance

Comply with this AD within the compliance times specified, unless already done.

(g) Required Actions

Except as specified in paragraph (h) of this AD: Comply with all required actions and compliance times specified in, and in accordance with, Transport Canada Emergency AD CF-2024-05, dated February 15, 2024 (Transport Canada Emergency AD CF-2024-05).

(h) Exceptions to Transport Canada Emergency AD CF-2024-05

(1) Where Transport Canada Emergency AD CF-2024-05 refers to its effective date, this AD requires using the effective date of this AD.

(2) Where Transport Canada Emergency AD CF-2024-05 refers to hours air time, this AD requires using flight hours.

(3) Where paragraph B of Transport Canada Emergency AD CF-2024-05 specifies “After the effective date of this AD,” replace that text with “As of the effective date of this AD.”

(i) Alternative Methods of Compliance (AMOCs)

(1) The Manager, AIR-520 Continued Operational Safety Branch, FAA, has the authority to approve AMOCs for this AD, if requested using the procedures found in 14 CFR 39.19. In accordance with 14 CFR 39.19, send your request to your principal inspector or responsible Flight Standards Office, as appropriate. If sending information directly to the manager of the AIR-520 Continued Operational Safety Branch, send it to the attention of the person identified in paragraph (j) of this AD and email it to ANE-AD-AMOC@faa.gov.

(2) Before using any approved AMOC, notify your appropriate principal inspector, or lacking a principal inspector, the manager of the local Flight Standards District Office/certificate holding district office.

(j) Additional Information

For more information about this AD, contact Barbara Caufield, Aviation Safety Engineer, FAA, 2200 South 216th Street, Des Moines, WA 98198; phone: (781) 238-7146; email: barbara.caufield@faa.gov.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Transport Canada Emergency AD CF-2024-05, dated February 15, 2024.

(ii) [Reserved]

(3) For Transport Canada Emergency AD CF-2024-05, contact Transport Canada, Transport Canada National Aircraft Certification, 159 Cleopatra Drive, Nepean, Ontario K1A 0N5, Canada; phone: (888) 663-3639; email: TC.AirworthinessDirectives-Consignesdenavigabilite.TC@tc.gc.ca; website: tc.canada.ca/en/aviation.

(4) You may view this service information at FAA, Airworthiness Products Section, Operational Safety Branch, 2200 South 216th Street, Des Moines, WA. For information on the availability of this material at the FAA, call (817) 222-5110.

(5) You may view this material at the National Archives and Records Administration (NARA). For information on the availability of this material at NARA, visit: www.archives.gov/federal-register/cfr/ibr-locations or email: fr.inspection@nara.gov.

Issued on February 29, 2024.
Victor Wicklund,
Deputy Director, Compliance & Airworthiness Division, Aircraft Certification Service.

[FR Doc. 2024-05238 Filed 3-8-24; 11:15 am]

BILLING CODE 4910-13-P